DEPARTMENT OF LABOR

Employment and Training Administration

[TA-W-65,386]

ANP Dimensional Lumber; Ogema, WI; Notice of Termination of Investigation

Pursuant to Section 221 of the Trade Act of 1974, as amended, an investigation was initiated on February 25, 2009 in response to a worker petition filed on behalf of workers at ANP Dimensional Lumber, Ogema, Wisconsin.

The petitioners have requested that petition be withdrawn. Consequently, the investigation has been terminated.

Signed at Washington, DC, this 18th day of March 2009.
Richard Church,
Certifying Officer, Division of Trade Adjustment Assistance.

[FR Doc. E9-7146 Filed 3-30-09; 8:45 am]

BILLING CODE 4510-FN-P